DEPARTMENT OF TRANSPORTATION

Federal Highway Administration

Environmental Impact Statement: Rockingham County, New Hampshire

AGENCY: Federal Highway Administration (FHWA), DOT.

ACTION: Revised notice of intent.

SUMMARY: The FHWA is issuing this revised notice to advise the public that a Supplemental Draft Environmental Impact Statement (SDEIS) will be prepared for a proposed highway project in the Towns of Derry and Londonderry, in Rockingham County, New Hampshire.

FOR FURTHER INFORMATION CONTACT: Mr. Jamie Sikora, New Hampshire Division, Federal Highway Administration, 53 Pleasant Street, Suite 2200, Concord, New Hampshire 03301, Telephone: (603) 410-4870. Mr. Keith Cota, Chief Project Manager, New Hampshire Department of Transportation, 7 Hazen Drive, Concord, New Hampshire 03302-0483, Telephone: (603) 271-1615. Mr. David Caron, Town Administrator, Town of Derry, 14 Manning Street, Derry, New Hampshire 03038, Telephone: (603) 432-6100. Mr. Kevin Smith, Town Manager, Town of Londonderry, 268B Mammoth Road, Londonderry, New Hampshire 03053, Telephone: (603) 432-1100 x111.

SUPPLEMENTARY INFORMATION: FHWA, in cooperation with the Towns of Derry and Londonderry (the Towns) and the New Hampshire Department of Transportation (NHDOT), is advancing an updated environmental study for the I-93 Exit 4A Project. The purpose of the proposed project is to reduce congestion and improve safety along NH Route 102, from I-93 easterly through downtown Derry and to promote economic vitality in the Derry/Londonderry area.

Planning for the Project began in 1985 and a Notice of Intent was published in the Federal Register on June 12, 1998 (Vol. 63 No. 113). A Draft Environmental Impact Statement (DEIS) was completed in 2007 and a Notice of Availability published on August 3, 2007 (EIS No. 20070317). A Public Hearing on the DEIS was held on September 12, 2007. Project development was subsequently delayed for several years. In October 2015, the Governor's Office directed NHDOT to accelerate the Exit 4A Project, and the Project was incorporated in the state's Ten Year Transportation Improvement Plan for 2017-2026. Pursuant to 40 CFR 1502.9(c) and 23 CFR 771.129, SDEIS will provide an up-to-date assessment of the environmental effects of the proposed project and reasonable alternatives that considers updated information regarding traffic, socioeconomic projections, land development proposals in the project area, and changes in environmental resources and regulatory requirements. After completion of the SDEIS, FHWA will complete the environmental review process by issuing a Combined Final EIS (FEIS) and Record of Decision (ROD).

The Preferred Alternative identified in the 2007 DEIS consisted of a new diamond interchange on I-93 in the Town of Londonderry, approximately one mile north of Exit 4. The new diamond interchange would provide access to the east side of I-93. A 1-mile connector roadway would be built on new alignment from the interchange to Folsom Road, near the intersection of North High Street and Madden Road, in the Town of Derry. Folsom Road, and subsequently Tsienneto Road, would be upgraded, and the intersections would be improved. In addition to the Preferred Alternative, the SDEIS will evaluate the same range of alternatives assessed in the 2007 DEIS, which included alternative interchange locations, connector road alignments, upgrades to NH 102 and the No Build Alternative.

To provide an update on the status of the proposed project and environmental review process, a public information meeting was held in Derry, New Hampshire on September 26, 2016. Additionally, once the SDEIS is complete in 2017, the document will be distributed to government agencies, posted on the project Web site, and made available at multiple locations throughout the project area for public viewing. During the 45 day SDEIS public comment period, a public hearing will be held providing the public with an opportunity to review and comment on the SDEIS.

Comments and suggestions are invited from all interested parties to ensure that the full range of issues related to this proposed action are addressed and all significant issues are identified. Comments or questions concerning this proposed action should be directed to the FHWA or NHDOT at the addresses provided above or submitted via the project Web site at http://i93exit4a.com/.

(Catalog of Federal Domestic Assistance Program Number 20.205, Highway Planning and Construction. The regulations implementing Executive Order 12372 regarding intergovernmental consultation on Federal programs and activities apply to this program.)

Issued on: November 30, 2016.
Patrick A. Bauer,
Division Administrator, Federal Highway Administration, Concord, New Hampshire.

[FR Doc. 2016-29413 Filed 12-7-16; 8:45 am]

BILLING CODE 4910-22-P